DEPARTMENT OF HEALTH AND HUMAN SERVICES

Centers for Disease Control and Prevention

Disease, Disability and Injury Prevention and Control Special Emphasis Panel: Optimizing Strategies to Provide Sexually Transmitted Disease (STD) Partner Services, PA# 00080.

In accordance with section 10(a)(2) of the Federal Advisory Committee Act (Pub. L. 92-463), the Centers for Disease Control and Prevention (CDC) announces the following meeting.

Name: Disease, Disability and Injury Prevention and Control Special Emphasis Panel: Optimizing Strategies to Provide Sexually Transmitted Disease (STD) Partner Services, PA# 00080.

Times and Dates: 8:30 a.m-9 a.m., August 29, 2000 (Open), 9 a.m.-4:30 p.m., August 29, 2000 (Closed), 8:30 a.m.-4:30 p.m., August 30, 2000 (Closed).

Place: Centers for Disease Control and Prevention, 12 Corporate Square Boulevard, Building 12, Conference Rooms 1203 and 1307, Atlanta, GA 30329.

Status: Portions of the meeting will be closed to the public in accordance with provisions set forth in section 552b(c)(4) and (6), Title 5 U.S.C., and the Determination of the Associate Director for Management and Operations, CDC, pursuant to Public Law 92-463.

Matters to be Discussed: The meeting will include the review, discussion, and evaluation of applications received in response to Program Announcement 00080.

Contact Person for more Information: Beth Wolfe, Prevention Support Office, National Center for HIV, STD, and TB Prevention, CDC, Corporate Square Office Park, 11 Corporate Square Boulevard, M/S E07, Atlanta, Georgia 30329, telephone 404/639-8025, e-mail eow1@cdc.gov.

The Director, Management Analysis and Services Office, has been delegated the authority to sign Federal Register Notices pertaining to announcements of meetings and other committee management activities, for both the Centers for Disease Control and Prevention and the Agency for Toxic Substances and Disease Registry.

Dated: June 23, 2000.
Carolyn J. Russell,
Director, Management Analysis and Services Office, Centers for Disease Control and Prevention (CDC).

[FR Doc. 00-16722 Filed 6-30-00; 8:45 am]

BILLING CODE 4163-18-P